DEPARTMENT OF COMMERCE

International Trade Administration

[A-570-886]

Notice of Extension of Time Limit for Final Results of Antidumping Duty Administrative Review: Polyethylene Retail Carrier Bags From the People's Republic of China

AGENCY: Import Administration, International Trade Administration, Department of Commerce.

DATES: Effective Date: December 29, 2008.

FOR FURTHER INFORMATION CONTACT: Kristin Case, AD/CVD Operations, Office 5, Import Administration, International Trade Administration, U.S. Department of Commerce, 14th Street and Constitution Avenue, NW., Washington, DC 20230; telephone: (202) 482-3174.

Background

The Department of Commerce (the Department) is conducting an administrative review of the antidumping duty order on polyethylene retail carrier bags from the People's Republic of China. On September 9, 2008, the Department published the preliminary results of review. See Polyethylene Retail Carrier Bags From the People's Republic of China: Preliminary Results of Antidumping Duty Administrative Review, 73 FR 52282 (September 9, 2008). The period of review is August 1, 2006, through July 31, 2007.

Extension of Time Limit for Final Results

Section 751(a)(3)(A) of the Tariff Act of 1930, as amended (the Act), requires the Department to make a final determination in an administrative review of an antidumping duty order within 120 days after the date on which the preliminary results are published in the Federal Register. If it is not practicable to complete the review within this time period, section 751(a)(3)(A) of the Act allows the Department to extend the time limit for the final determination to 180 days after the preliminary determination.

We determine that it is not practicable to complete the final results of this review by the current deadline of January 7, 2009. We require additional time to evaluate complex issues the parties have raised concerning the calculation of surrogate financial ratios. Therefore, in accordance with section 751(a)(3)(A) of the Act and 19 CFR 351.213(h)(2), we are extending the time period for issuing the final results of this review by 28 days to February 4, 2009.

This notice is published in accordance with sections 751(a)(3)(A) and 777(i) of the Act.

Dated: December 18, 2008.
Stephen J. Claeys,
Deputy Assistant Secretary for Antidumping and Countervailing Duty Operations.

[FR Doc. E8-30854 Filed 12-24-08; 8:45 am]

BILLING CODE 3510-DS-P